ENVIRONMENTAL PROTECTION AGENCY

40 CFR Part 141

[OW-2003-0067; FRL-7669-1]

RIN 2040-AE62

National Primary Drinking Water Regulations: Analytical Method for Uranium

AGENCY: Environmental Protection Agency (EPA).

ACTION: Proposed rule.

SUMMARY: EPA is proposing to approve the use of three additional analytical methods for compliance determinations of uranium in drinking water. Each of these methods use an inductively coupled plasma mass spectrometry (ICP-MS) technology that has gained wide acceptance in the analytical community. EPA believes that ICP-MS analytical methods could be more cost-effective, less labor-intensive or more sensitive than some of the technologies previously approved in the December 2000 Radionuclides Rule. (65 FR 76708) This proposed rule does not withdraw approval of any previously approved monitoring methods for uranium.

In the “Rules and Regulations” section of the Federal Register, we are approving National Primary Drinking Water Regulations: Analytical Method for Uranium as a direct final rule without prior proposal because we view this as a noncontroversial rulemaking and anticipate no adverse comment. We have explained our reasons for this approval in the preamble to the direct final rule. If we receive no adverse comment, we will not take further action on this proposed rule. If we receive adverse comment, we will withdraw the direct final rule and it will not take effect. We will address all public comments in a subsequent final rule based on this proposed rule. We will not institute a second comment period on this action. Any parties interested in commenting must do so at this time.

Through this proposal, EPA requests comment on whether approval of the ICP-MS methods published by EPA, American Society for Testing and Materials International (ASTM), and the Standard Methods Committee (EPA 200.8, ASTM D5673-03, and SM 3125), is appropriate for compliance determinations of uranium in drinking water only. Readers should please note that EPA is not requesting comment on any other use of these three ICP-MS methods, use of any other ICP-MS method, or any issue associated with the uranium standard or its implementation, and EPA will not respond to any comments other than those concerning the approval of these specific methods (as cited) for compliance determinations of uranium in drinking water. Today's action does not affect approval of the 15 methods currently approved for compliance monitoring of uranium.

DATES: Comments must be received on or before July 2, 2004.

ADDRESSES: Submit your comments, identified by Docket ID No. OW-2003-0067, by one of the following methods:

• Federal eRulemaking Portal: http://www.regulations.gov. Follow the on-line instructions for submitting comments.

• Agency Website: http://www.epa.gov/edocket. EDOCKET, EPA's electronic public docket and comment system, is EPA's preferred method for receiving comments. Follow the on-line instructions for submitting comments.

• E-mail: OW-Docket@epa.gov.

• Mail: OW Docket, Environmental Protection Agency, Mailcode: 4101T, 1200 Pennsylvania Ave., NW, Washington, DC 20460. Please include a total of 4 copies.

• Hand Delivery: OW Docket, EPA Docket Center, EPA/DC, EPA West, Room B102, 1301 Constitution Avenue, NW, Washington, DC. Such deliveries are only accepted during the Docket's normal hours of operation, and special arrangements should be made for deliveries of boxed information.

Instructions: Direct your comments to Docket ID No. OW-2003-0067. EPA's policy is that all comments received will be included in the public docket without change and may be made available online at http://www.epa.gov/edocket, including any personal information provided, unless the comment includes information claimed to be Confidential Business Information (CBI) or other information whose disclosure is restricted by statute. Do not submit information that you consider to be CBI or otherwise protected through EDOCKET, regulations.gov, or e-mail. The EPA EDOCKET and the federal regulations.gov Web sites are “anonymous access” systems, which means EPA will not know your identity or contact information unless you provide it in the body of your comment. If you send an e-mail comment directly to EPA without going through EDOCKET or regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit EDOCKET on-line or see the Federal Register of May 31, 2002 (67 FR 38102).

Docket: All documents in the docket are listed in the EDOCKET index at http://www.epa.gov/edocket. Although listed in the index, some information is not publicly available, i.e., CBI or other information whose disclosure is restricted by statute. Certain other material, such as copyrighted material, is not placed on the Internet and will be publicly available only in hard copy form. Publicly available docket materials are available either electronically in EDOCKET or in hard copy at the OW Docket, EPA Docket Center, EPA/DC, EPA West, Room B102, 1301 Constitution Avenue, NW, Washington, DC. This Docket Facility is open from 8:30 a.m. to 4:30 p.m., Monday through Friday, excluding legal holidays. The Docket telephone number is (202) 566-2426. The Public Reading Room is open from 8:30 a.m. to 4:30 p.m., Monday through Friday, excluding legal holidays. The telephone number for the Public Reading Room is (202) 566-1744.

FOR FURTHER INFORMATION CONTACT: General Information—Lisa Christ, Office of Ground Water and Drinking Water, Mailcode: 4606M, Environmental Protection Agency, 1200 Pennsylvania Ave., NW, Washington, DC 20460; telephone number: (202) 564-8354; e-mail address: christ.lisa@epa.gov, Technical information—David Huber, Office of Ground Water and Drinking Water, Mailcode: 4606M, Environmental Protection Agency, 1200 Pennsylvania Ave., NW, Washington, DC, 20460; telephone number: (202) 564-4878; e-mail address: huber.david@epa.gov.

SUPPLEMENTARY INFORMATION:

I. Does This Action Apply to Me?

Entities potentially regulated by this regulation are public water systems that are classified as community water systems (CWSs). A community water system (CWS) means a public water system which serves at least 15 service connections used by year-round residents or regularly serves at least 25 year-round residents. Categories and entities potentially regulated by this action include the following:

Category | Examples of potentially regulated entities | NAICS¹
Industry | Privately-owned community water systems | 221310
State, Tribal, Local, and Federal Government | Publicly-owned community water systems | 924110
¹ National American Industry Classification System.

This table is not intended to be exhaustive, but rather provides a guide for readers regarding entities likely to be regulated by this action. This table lists the types of entities that EPA is now aware could potentially be regulated by this action. Other types of entities not listed in the table could also be regulated. To determine whether your facility is regulated by this action, you should carefully examine the applicability criteria in § 141.66 of title 40 of the Code of Federal Regulations. If you have questions regarding the applicability of this action to a particular entity, consult the person listed in the preceding FOR FURTHER INFORMATION CONTACT section.

II. What Is EPA's Statutory Authority and Background for This Proposed Rule?

The Safe Drinking Water Act (SDWA), as amended in 1996, requires EPA to promulgate national primary drinking water regulations (NPDWRs) which specify maximum contaminant levels (MCLs) or treatment techniques for drinking water contaminants (SDWA section 1412 (42 U.S.C. 300g-1)). NPDWRs apply to public water systems pursuant to SDWA section 1401 (42 U.S.C. 300f(1)(A)). According to SDWA section 1401(1)(D), NPDWRs include “criteria and procedures to assure a supply of drinking water which dependably complies with such maximum contaminant levels; including accepted methods for quality control and testing procedures.” In addition, SDWA section 1445(a) authorizes the Administrator to establish regulations for monitoring to assist in determining whether persons are acting in compliance with the requirements of the SDWA. EPA's promulgation of analytical methods is authorized under these sections of the SDWA, as well as the general rulemaking authority in SDWA section 1450(a), (42 U.S.C. 300j-9(a)). As discussed earlier in part I.A of this preamble, the action proposed herein would affect CWSs. CWSs are a subset of public water systems. (40 CFR 141.2).

On December 7, 2000 (65 FR 76708), EPA published a final Radionuclides Rule in the Federal Register that included monitoring requirements and a MCL of 30 micrograms per liter (30 μg/L) for uranium that took effect in December 2003. In the preamble to the December 2000 rule, EPA noted that several commenters asked EPA to consider the approval of compliance monitoring methods that use an inductively coupled plasma mass spectrometry (ICP-MS) technology. (65 FR 76724) These commenters suggested that ICP-MS analytical methods could be more cost-effective, less labor-intensive or more sensitive than some of the technologies approved in the December 2000 rule. In response to these comments, EPA stated that the Agency was reviewing ICP-MS technology for possible proposal in a future rulemaking. EPA has completed this review and in today's proposed rule is proposing approval of three methods that use ICP-MS technology. The methods are equivalent and published by EPA, ASTM International, and the Standard Methods (SM) Committee. The methods are EPA 200.8, ASTM D5673-03, and SM 3125.

III. What is EPA Doing Today?

EPA is proposing to approve the use of the ICP-MS methods published by EPA, ASTM International, and the Standard Methods Committee (EPA 200.8, ASTM D5673-03, and SM 3125) for compliance determinations of uranium in drinking water. For further information regarding these methods, please see the information provided in the direct final action located in the “Rules and Regulations” section of this Federal Register publication.

For the various statutes and executive orders that require findings for rule making, EPA incorporates the findings from the direct final rule into this companion proposal for the purpose of providing public notice and opportunity for comment.

IV. Summary of ICP-MS Technology

EPA reviewed ICP-MS methods published by EPA, ASTM International, and the Standard Methods Committee. In each of these methods, sample material in solution is introduced by pneumatic nebulization into a radiofrequency plasma where energy transfer processes cause desolvation, atomization and ionization. The ions are extracted from the plasma through a differentially pumped vacuum interface and separated on the basis of their mass-to-charge ratio by a quadrupole mass spectrometer having a minimum resolution capability of one atomic mass unit peak width at five percent peak height. The ions transmitted through the quadrupole are detected by an electron multiplier or Faraday detector and the ion information processed by a data handling system. The sensitivity of each ICP-MS method for compliance determinations of uranium in drinking water is acceptable and is sensitive enough to detect at less than one part per billion (1 ug/L). The uranium MCL is 30 ug/L.

EPA reviewed each of these methods for performance and applicability to compliance determinations of uranium in drinking water. Three of these methods, EPA 200.8, ASTM D5673-03, and SM 3125, have acceptable performance and are otherwise suitable for compliance determinations of uranium in drinking water. Method EPA 200.8 was published by EPA in 1994; method ASTM D5673-03 was published by ASTM International in 2003; and SM 3125 was published by the Standard Methods Committee in 1998. In today's proposed rule, EPA is proposing the use of these ICP-MS methods for compliance determinations of uranium in drinking water.

EPA is not, in today's proposed rule, proposing the use of these methods for any other purposes. EPA notes that EPA 200.8 was approved for compliance determinations of several regulated metals in drinking water on December 5, 1994. (59 FR 62456) EPA also recognizes that the other two ICP-MS methods proposed through today's action for determination of other uranium may also be applicable to monitoring for other drinking water contaminants. Although the analytical scope of ASTM D5673-03 and SM 3125 extends beyond uranium, these two methods were not published until 2003 and 1998, respectively. In a later rulemaking, EPA may consider extending the use of ASTM D5673-03 and SM 3125 to compliance determinations of other regulated metals.

Like flourometric and laser phosphorimetry methods, ICP-MS measures uranium mass only; therefore all caveats discussed in the December 2000 Radionuclides Rule on using mass methods to determine contributions to gross alpha also apply. (65 FR 76724)

Today's proposed rule does not affect approval of the 15 methods currently specified at 40 CFR 141.25(a) for compliance determinations of uranium.

V. Statutory and Executive Order Reviews

For the Statutory and Executive Order reviews see the parallel direct final rule found elsewhere in today's Federal Register.

List of Subjects for 40 CFR Part 141

Environmental protection, Chemicals, Indians-lands, Intergovernmental relations, Radiation protection, Reporting and recordkeeping requirements, Water supply.

Dated: May 24, 2004.
Michael O. Leavitt,
Administrator.

For the reasons set out in the preamble, title 40, chapter 1 of the Code of Federal Regulations is amended as found in the parallel direct final rule found elsewhere in today's Federal Register.

[FR Doc. 04-12300 Filed 6-1-04; 8:45 am]

BILLING CODE 6560-50-P